DEPARTMENT OF EDUCATION

Submission for OMB Review; Comment Request

AGENCY: Department of Education.

ACTION: Correction notice.

SUMMARY: On October 12, 2007, the Department of Education published a comment period notice in the Federal Register (Page 58063, Column 2) for the information collection, “U.S. Department of Education Grant Performance Report Form and Instructions (ED 524B)”. The abstract has been corrected to state a 3-year clearance instead of a 2-year clearance.

The IC Clearance Official, Regulatory Information Management Services, Office of Management, hereby issues a correction notice as required by the Paperwork Reduction Act of 1995.

Dated: October 16, 2007.
Angela C. Arrington,
IC Clearance Official, Regulatory Information Management Services, Office of Management.

[FR Doc. E7-20673 Filed 10-18-07; 8:45 am]

BILLING CODE 4000-01-P